DEPARTMENT OF ENERGY

Federal Energy Regulatory Commission

[Docket No. CP04-364-000]

Northern Natural Gas Company; Notice of Request Under Blanket Authorization

June 25, 2004.

Take notice that on June 21, 2004, Northern Natural Gas Company (Northern), 1111 South 103rd Street, Omaha, Nebraska 68124, filed in Docket No. CP04-364-000 an application pursuant to Northern's blanket authority granted on September 1, 1982, at Docket No. CP82-401-000 and Sections 157.205, 157.208 and 157.216 of the Commission's Regulations for authorization to replace, operate, and relocate certain facilities of the Marquette branchline and up-rate the maximum allowable operating pressure (MAOP) on the pipeline, all located in Marquette County, Michigan, as more fully set forth in the request which is on file with the Commission and open to public inspection.

Northern proposes to (1) replace and operate approximately 14.4 miles of its existing 12-inch Marquette branchline (MIM10101); (2) relocate a regulator setting and replace a receiver barrel; and (3) up-rate the maximum allowable operating pressure (MAOP) on approximately 17 miles of the Marquette branchline and operate such pipeline at the higher MAOP. Northern states that authorization to replace and operate the 12-inch Marquette branchline is necessary in order to remediate anomalies discovered during a caliper pig run.

Northern proposes to replace the existing 12-inch branchline with 12-inch pipeline starting at MP 227.35 in Section 32, T47N, R29W, and ending at MP 241.73 in Section 27, T47N, R27W. With the exception of approximately 11,200 feet of pipeline that will be installed in new right-of-way, the new replacement pipeline will primarily be installed parallel and adjacent to the existing pipeline. The offset will generally be 35 feet from the existing pipeline.

Northern states that the facilities will be financed with internally generated funds. The total estimated cost of the proposed project is $12,000,000. Northern states that it will account for the retirement of the replaced segments of pipeline in accordance with Gas Plant Instruction No. 10 in 18 CFR part 201.

Any questions regarding this application should be directed to Michael T. Loeffler, Director, Certificates and Reporting for Northern, 1111 South 103rd Street, Omaha, Nebraska 68124, at (402) 398-7103 or Donna Martens, Senior Regulatory Analyst, at (402) 398-7138.

This filing is available for review at the Commission in the Public Reference Room or may be viewed on the Commission's Web site at http://www.ferc.gov using the “e-Library” link. Enter the docket number excluding the last three digits in the docket number field to access the document. For assistance, contact FERC Online Support at FERCOnlineSupport@ferc.gov or call toll-free, (866) 208-3676, or for TTY, (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 855.214) a motion to intervene or notice of intervention and pursuant to Section 157.205 of the Regulations under the Natural Gas Act (18 CFR 157.205) a protest to the request. If no protest is filed within the time allowed, therefore, the proposed activity shall be deemed to be authorized effective the day after the time allowed for filing a protest. If a protest is filed and not withdrawn within 30 days after the time allowed for filing a protest, the instant request shall be treated as an application for authorization pursuant to section 7 of the Natural Gas Act.

Comment Date: August 9, 2004.

Magalie R. Salas,
Secretary.

[FR Doc. E4-1455 Filed 6-30-04; 8:45 am]

BILLING CODE 6717-01-P